DEPARTMENT OF TRANSPORTATION

Office of the Secretary

[Docket No. DOT-OST-2025-1161]

Agency Information Collection: Activity for OMB Review: Agency Request for Reinstatement of a Previously Approved Information Collection: 2105-0009, Advisory Committee Candidate Biographical Information Request Form

AGENCY: Office of the Secretary (OST), U.S. Department of Transportation (Department or DOT).

ACTION: Notice; request for comments.

SUMMARY: In compliance with the Paperwork Reduction Act of 1995, the Department invites the general public, industry, and other government parties to comment on the information collection request (ICR) OMB No. 2105-0009, “Committee Candidate Biographical Information Request Form.” The information collection request previously approved by the Office of Management and Budget (OMB) expired on May 3, 2022. The collection is needed to facilitate background investigations of individuals seeking appointment to a Departmental committee.

DATES: Written comments should be submitted by November 14, 2025.

FOR FURTHER INFORMATION CONTACT: Ashleigh Schofield, Supervisory Writer-Editor, Executive Secretariat, U.S. Department of Transportation, (771) 241-9281, Ashleigh.Schofield@dot.gov. Refer to “OMB Control No. 2105-0009.”

ADDRESSES: All comments should refer to the docket number above and be submitted by one of the following methods:

• Federal Rulemaking Portal: https://www.regulations.gov. Follow the online instructions for submitting comments.

• Mail: Docket Management Facility; U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal holidays.

Instructions: All comments must include the agency name and Docket DOT-OST-2025-1161. Note that all comments received will be posted without change to https://www.regulations.gov, including personal information provided. You should know that anyone is able to search the electronic form of all comments received into any of our dockets by the name of the individual submitting the comment (or signing the comment, if submitted on behalf of an associate, business, labor union, etc.).

SUPPLEMENTARY INFORMATION:

Title: Committee Candidate Biographical Information Request.

OMB Control No.: 2105-0009.

Type of Review: Reinstatement without change of previously approved information collection.

Form No.: DOT F1120.1.

Respondents: Individuals who have contacted DOT to indicate interest in appointment to a committee and individuals who have been recommended for membership on a committee. Only one collection is expected per individual.

Number of Respondents: 250 annually.

Frequency: One time.

Estimated Time per Response: 15 minutes.

Total Annual Burden: 62.5 hours.

Comments are invited on: (a) Whether the proposed collection of information is necessary for the proper performance of the functions of the Department, including whether the information will be have practical utility; (b) the accuracy of the Department's estimate of burden of the proposed information collection; (c) ways to enhance the quality, utility, and clarity of the information collection; and (d) ways to minimize the collection of information on the respondents, including the use of automated collection techniques or other forms of information technology without reducing the quality of the information collected. All comments will become a matter of public record.

(Authority: The Paperwork Reduction Act of 1995; 44 U.S.C. chapter 35, as amended; and 49 CFR 1.48.)

Issued in Washington, DC.
Ashleigh Schofield,
Supervisory Writer-Editor, Executive Secretariat.

[FR Doc. 2025-17594 Filed 9-11-25; 8:45 am]

BILLING CODE 4910-9X-P